DEPARTMENT OF LABOR

Employment and Training Administration

[TA-W-64,210]

JDS Uniphase; Louisville, CO; Notice of Termination of Investigation

Pursuant to Section 221 of the Trade Act of 1974, as amended, an investigation was initiated on October 14, 2008 in response to a petition filed by a company official on behalf of workers of JDS Uniphase, Louisville, Colorado.

The Department has determined that this petition is a duplicate of petition number TA-W-64,132, instituted on September 30, 2008. The investigation of that petition is ongoing and determination has not yet been issued. Therefore, further investigation in the case would serve no purpose, and this investigation has been terminated.

Signed at Washington, DC, this 23rd day of October 2008.
Linda G. Poole,
Certifying Officer, Division of Trade Adjustment Assistance.

[FR Doc. E8-26056 Filed 10-31-08; 8:45 am]

BILLING CODE 4510-FN-P